DEPARTMENT OF HEALTH AND HUMAN SERVICES

Centers for Disease Control and Prevention

Disease, Disability, and Injury Prevention and Control; Special Emphasis Panel; Notice of Meeting

Disease, Disability, and Injury Prevention and Control Special Emphasis Panel: Integrated, Multi-Level Intervention to Improve Adolescent Health Through the Prevention of Sexually Transmitted Diseases, Including HIV, and Teen Pregnancy, Program Announcement 02008.

In accordance with section 10(a)(2) of the Federal Advisory Committee Act (Pub. L. 92-463), the Centers for Disease Control and Prevention (CDC) announces the following meeting:

Name: Disease, Disability, and Injury Prevention and Control Special Emphasis Panel (SEP): Integrated, Multi-Level Intervention to Improve Adolescent Health Through the Prevention of Sexually Transmitted Diseases, Including HIV, and Teen Pregnancy, PA# 02008.

Times and Dates: 9 a.m.-9:30 a.m., July 31, 2002 (Open), 9:30 a.m.-4:30 p.m., July 31, 2002 (Closed), 9 a.m.-4:30 p.m., August 1, 2002 (Closed).

Place: Holiday Inn Select—Decatur Conference Plaza, 130 Clairmont Ave., Decatur, GA 30030.

Status: Portions of the meeting will be closed to the public in accordance with provisions set forth in section 552b(c) (4) and (6), Title 5 U.S.C., and the Determination of the Director, Management Analysis and Services Office, CDC, pursuant to Public Law 92-463.

Matters to be Discussed: The meeting will include the review, discussion, and evaluation of applications received in response to PA# 02008.

Contact Person for More Information: Deirdre Kelly Hector and/or Beth Wolfe, Prevention Support Office, National Center for HIV, STD, and TB Prevention, CDC, 1600 Clifton Road NE MS E-07, Atlanta, Georgia 30333, 404-639-8025.

The Director, Management Analysis and Services Office has been delegated the authority to sign Federal Register notices pertaining to announcements of meetings and other committee management activities, for both the Centers for Disease Control and Prevention and the Agency for Toxic Substances and Disease Registry.

Dated: July 11, 2002.
Joseph E. Salter,
Acting Director, Management Analysis and Services Office, Centers for Disease Control and Prevention (CDC).

[FR Doc. 02-17947 Filed 7-16-02; 8:45 am]

BILLING CODE 4163-18-P